OFFICE OF PERSONNEL MANAGEMENT

Excepted Service

AGENCY: Office of Personnel Management (OPM).

ACTION: Notice.

SUMMARY: This notice identifies Schedule A, B, and C appointing authorities applicable to a single agency that were established or revoked from January 1, 2019 to January 31, 2019.

FOR FURTHER INFORMATION CONTACT: Julia Alford, Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule A Authorities to report during January 2019.

Schedule B

No Schedule B Authorities to report during January 2019.

Schedule C

The following Schedule C appointing authorities were approved during January 2019.

Agency name | Organization name | Position title | Authorization No. | Effective date
DEPARTMENT OF COMMERCE | Office of the Assistant Secretary for Industry and Analysis | Director, Office of Industry Engagement | DC190034 | 01/29/2019
DEPARTMENT OF DEFENSE | Office of the Secretary of Defense | Defense Fellow | DD190027 | 01/25/2019
| Washington Headquarters Services | Defense Fellow | DD190017 | 01/23/2019
|  | Attorney-Advisor (General) | DD190031 | 01/25/2019
|  | Special Assistant | DD190032 | 01/25/2019
DEPARTMENT OF EDUCATION | Office for Civil Rights | Confidential Assistant for Policy | DB190040 | 01/25/2019
|  | Confidential Assistant | DB190056 | 01/30/2019
| Office of Legislation and Congressional Affairs | Confidential Assistant | DB190046 | 01/25/2019
| Office of Special Education and Rehabilitative Services | Special Assistant | DB190053 | 01/17/2019
| Office of the General Counsel | Attorney Adviser | DB190047 | 01/25/2019
| Office of the Secretary | Special Assistant | DB190020 | 01/17/2019
|  | Confidential Assistant (2) | DB190019 | 01/25/2019
|  |  | DB190042 | 01/25/2019
DEPARTMENT OF ENERGY | Office of Cybersecurity, Energy Security and Emergency Response | Chief of Staff | DE190037 | 01/25/2019
| Office of Public Affairs | Writer-Editor (Speechwriter) | DE190034 | 01/30/2019
| Office of Scheduling and Advance | Senior Advisor for Strategic Planning | DE190036 | 01/25/2019
| Office of the Assistant Secretary for Energy Efficiency and Renewable Energy | Senior Advisor | DE190035 | 01/25/2019
| Office of the Under Secretary of Energy | Senior Advisor | DE190033 | 01/25/2019
ENVIRONMENTAL PROTECTION AGENCY | Office of Public Affairs | Public Affairs Specialist (2) | EP190019 | 01/30/2019
|  |  | EP190026 | 01/30/2019
| Office of the Administrator | Senior Advisor | EP190023 | 01/30/2019
| Office of the Assistant Administrator for Water | Special Assistant | EP190009 | 01/30/2019
GENERAL SERVICES ADMINISTRATION | Office of Congressional and Intergovernmental Affairs | Congressional Policy Analyst | GS190014 | 01/30/2019
DEPARTMENT OF HEALTH AND HUMAN SERVICES | Office of Administration for Children and Families | Director of Legislative Affairs | DH190057 | 01/28/2019
| Office of Global Affairs | Chief of Staff | DH190044 | 01/17/2019
|  | Senior Advisor | DH190043 | 01/25/2019
| Office of the Assistant Secretary for Financial Resources | Director of Congressional Relations | DH190037 | 01/29/2019
| Office of the Assistant Secretary for Legislation | Advisor | DH190035 | 01/25/2019
|  | Director of Congressional Liaison | DH190034 | 01/29/2019
| Office of the Assistant Secretary for Public Affairs | Assistant Speechwriter | DH190050 | 01/25/2019
| Office of the Secretary | Advance Representative | DH190029 | 01/25/2019
|  | Advisor | DH190053 | 01/25/2019
|  | Special Assistant | DH190062 | 01/29/2019
DEPARTMENT OF HOMELAND SECURITY | Office of the Executive Secretariat | Briefing Book Coordinator | DM190027 | 01/19/2019
| Federal Emergency Management Agency | Special Assistant | DM190055 | 01/29/2019
DEPARTMENT OF HOUSING AND URBAN DEVELOPMENT | Office of Congressional and Intergovernmental Relations | Senior Advisor | DU190018 | 01/30/2019
DEPARTMENT OF JUSTICE | Office of Antitrust Division | Chief of Staff and Senior Counsel | DJ190007 | 01/30/2019
DEPARTMENT OF LABOR | Bureau of International Labor Affairs | Chief of Staff | DL190007 | 01/25/2019
| Office of Employee Benefits Security Administration | Senior Policy Advisor | DL190025 | 01/25/2019
| Office of Employment and Training Administration | Policy Advisor | DL190030 | 01/25/2019
| Office of Occupational Safety and Health Administration | Chief of Staff | DL190018 | 01/25/2019
| Office of Congressional and Intergovernmental Affairs | Senior Legislative Officer (2) | DL190027 DL190032 | 01/25/2019 01/25/2019
| Office of Disability Employment Policy | Chief of Staff Special Assistant | DL190023 DL190034 | 01/17/2019 01/17/2019
| Office of Public Liaison | Deputy Director, Office of Public Liaison | DL190029 | 01/25/2019
| Office of Wage and Hour Division | Senior Policy Advisor (2) | DL190031 | 01/25/2019
|  |  | DL190020 | 01/28/2019
| Office of Women's Bureau | Deputy Director Women's Bureau | DL190011 | 01/29/2019
OFFICE OF MANAGEMENT AND BUDGET | Office of the General Counsel | Deputy for Oversight | BO190005 | 01/15/2019
SECURITIES AND EXCHANGE COMMISSION | Office of the Chairman | Confidential Assistant | SE190002 | 01/28/2019
DEPARTMENT OF STATE | Bureau of Legislative Affairs | Deputy Assistant Secretary | DS190022 | 01/29/2019
| Bureau of Western Hemisphere Affairs | Deputy Assistant Secretary Senior Advisor | DS190021 DS190023 | 01/29/2019 01/29/2019
DEPARTMENT OF TRANSPORTATION | Office of the Assistant Secretary for Governmental Affairs | Senior Governmental Affairs Officer | DT190021 | 01/25/2019
| Office of the Secretary | Special Assistant for Advance | DT190024 | 01/29/2019
DEPARTMENT OF THE TREASURY | Secretary of the Treasury | Special Assistant | DY190023 | 01/29/2019

The following Schedule C appointing authorities were revoked during January 2019.

Agency name | Organization name | Position title | Request No. | Date vacated
COMMODITY FUTURES TRADING COMMISSION | Office of the Chairperson | Market Intelligence Advisor | CT170008 | 01/04/2019
DEPARTMENT OF HEALTH AND HUMAN SERVICES | Office of Intergovernmental and External Affairs | Senior Advisor | DH180242 | 01/04/2019
| Office of Administration for Community Living | Advisor | DH170234 | 01/13/2019
| Office of the Deputy Secretary | Assistant to the Deputy Secretary | DH180038 | 01/13/2019
| Office of Global Affairs | Senior Policy Advisor | DH180133 | 01/19/2019
DEPARTMENT OF JUSTICE | Office of Public Affairs | Lead Media Affairs Coordinator | DJ180148 | 01/05/2019
| Office of Civil Rights Division | Counsel | DJ180108 | 01/31/2019
NATIONAL AERONAUTICS AND SPACE ADMINISTRATION | Office of Communications | Senior Advisor/Press Secretary | NN180018 | 01/11/2019
SMALL BUSINESS ADMINISTRATION | Office of the Administrator | Scheduler | SB180041 | 01/05/2019

Authority: 5 U.S.C. 3301 and 3302; E.O. 10577, 3 CFR, 1954-1958 Comp., p. 218.

Office of Personnel Management.
Alexys Stanley,
Regulatory Affairs Analyst.

[FR Doc. 2019-13938 Filed 6-28-19; 8:45 am]

BILLING CODE 6325-39-P